DEPARTMENT OF THE TREASURY

Office of Foreign Assets Control

Additional Designations, Foreign Narcotics Kingpin Designation Act

AGENCY: Office of Foreign Assets Control, Treasury.

ACTION: Notice.

SUMMARY: The Treasury Department's Office of Foreign Assets Control (“OFAC”) is publishing the names of two additional entities and six additional individuals whose property and interests in property have been blocked pursuant to the Foreign Narcotics Kingpin Designation Act (“Kingpin Act”) (21 U.S.C. 1901-1908, 8 U.S.C. 1182).

DATES: The designation by the Secretary of the Treasury of the two entities and six individuals identified in this notice pursuant to section 805(b) of the Kingpin Act is effective on September 3, 2009.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available on OFAC's Web site (http://www.treas.gov/ofac) or via facsimile through a 24-hour fax-on demand service, tel.: (202) 622-0077.

Background

The Kingpin Act became law on December 3, 1999. The Act provides a statutory framework for the President to impose sanctions against significant foreign narcotics traffickers and their organizations on a worldwide basis, with the objective of denying their businesses and agents access to the U.S. financial system and to the benefits of trade and transactions involving U.S. companies and individuals.

The Kingpin Act blocks all property and interests in property subject to U.S. jurisdiction which are owned or controlled by significant foreign narcotics traffickers as identified by the President. In addition, the Secretary of the Treasury consults with the Attorney General, the Director of the Central Intelligence Agency, the Director of the Federal Bureau of Investigation, the Administrator of the Drug Enforcement Administration, the Secretary of Defense, the Secretary of State, and the Secretary of Homeland Security when designating and blocking the property or interests in property, subject to U.S. jurisdiction, of persons who are found to be: (1) Materially assisting in, or providing financial or technological support for or to, or providing goods or services in support of, the international narcotics trafficking activities of a person designated pursuant to the Kingpin Act; (2) owned, controlled, or directed by, or acting for or on behalf of, a person designated pursuant to the Kingpin Act; or (3) playing a significant role in international narcotics trafficking.

On September 3, 2009, OFAC designated an additional two entities and six individuals whose property and interests in property are blocked pursuant to section 805(b) of the Foreign Narcotics Kingpin Designation Act.

The list of additional designees follows:

Entities

1. INSUMOS ECOLOGICOS DE ORIENTE, S.A. DE C.V., Jose I Solorzano 746, Colonia Jardines Alcalde, Guadalajara, Jalisco 44290, Mexico; R.F.C. IEO0806245A3 (Mexico); (ENTITY) [SDNTK].

2. ALIMENTOS SELECTOS SAN FRANCISCO S.P.R. DE R.L., Chicharo 2680, Colonia Mercado de Abastos, Guadalajara, Jalisco 44530, Mexico; Rinconada de la Floresta 1243, Colonia Rinconada del Bosque, Guadalajara, Jalisco 44530, Mexico; R.F.C. ASS040427676 (Mexico); (ENTITY) [SDNTK].

Individuals

1. BRAMBILA MARTINEZ, Aurora, c/o PRODUCTOS FARMACEUTICOS COLLINS, S.A. DE C.V., Zapopan, Jalisco, Mexico; c/o INSUMOS ECOLOGICOS DEL ORIENTE, S.A. DE C.V., Guadalajara, Jalisco, Mexico; Avenida Obregon 180, Colonia Puente Grande, Jalisco, Mexico; DOB 15 Dec 1965; POB Mexico; Citizen Mexico; Nationality Mexico; C.U.R.P. BAMA651215MJCRRR05 (Mexico); C.U.R.P. BAMA651215MMCRRR04 (Mexico); R.F.C. BAMA651215DI7 (Mexico); Contadora Publica; (INDIVIDUAL) [SDNTK].

2. ESPINOSA DE LOS MONTEROS RICO, Felipe De Jesus (a.k.a. ESPINOSA DE LOS RICO, Felipe de Jesus; a.k.a. ESPINOZA DE LOS MONTEROS, Felipe); c/o PRODUCTOS FARMACEUTICOS COLLINS, S.A. DE C.V., Zapopan, Jalisco, Mexico; c/o INSUMOS ECOLOGICOS DEL ORIENTE, S.A. DE C.V., Guadalajara, Jalisco, Mexico; c/o SALUD NATURAL MEXICANA, S.A. DE C.V., Zapopan, Jalisco, Mexico; Mexico; Avenida Naciones Unidas 5989, Cond. Ibiza Casa 34, Zapopan, Jalisco 45110, Mexico; DOB 15 Jun 1962; Alt. DOB 15 Jan 1962; POB Mexico City; Citizen Mexico; Nationality Mexico; Passport 00140030868 (Mexico); (INDIVIDUAL) [SDNTK].

3. DIAZ CASTRO, Maria Teresa (a.k.a. DIAZ DE TIRADO, Maria Teresa); c/o PRODUCTOS FARMACEUTICOS COLLINS, S.A. DE C.V., Zapopan, Jalisco, Mexico; c/o INSUMOS ECOLOGICOS DEL ORIENTE, S.A. DE C.V., Guadalajara, Jalisco, Mexico; DOB 23 Jan 1948; POB Sinaloa, Mexico; Citizen Mexico; Nationality Mexico; C.U.R.P. DICT480123MSLZSR05 (Mexico); R.F.C. DICT480123I37 (Mexico); (INDIVIDUAL) [SDNTK].

4. TIRADO DIAZ, Maria Teresa, c/o ALIMENTOS SELECTOS SAN FRANCISCO S.P.R. DE R.L., Guadalajara, Jalisco, Mexico; Alvaro Obregon 250, Colonia Agua Blanca Sur, Zapopan, Jalisco 45235, Mexico; DOB 08 Dec 1976; POB Mexico; Citizen Mexico; Nationality Mexico; Electoral Registry No. TRDZTR76120814M700 (Mexico) issued: 1997; (INDIVIDUAL) [SDNTK].

5. TIRADO DIAZ, Baltazar, c/o ALIMENTOS SELECTOS SAN FRANCISCO S.P.R. DE R.L., Guadalajara, Jalisco, Mexico; c/o PRODUCTOS FARMACEUTICOS COLLINS, S.A. DE C.V., Zapopan, Jalisco, Mexico; DOB 27 Aug 1967; POB Mexico; Citizen Mexico; Nationality Mexico; C.U.R.P. TIDB670827HJCRZL07 (Mexico); (INDIVIDUAL) [SDNTK].

6. TIRADO DIAZ, Liliana Guadalupe, c/o ALIMENTOS SELECTOS SAN FRANCISCO S.P.R. DE R.L., Guadalajara, Jalisco, Mexico; DOB 23 Jul 1966; POB Mexico; Citizen Mexico; Nationality Mexico; C.U.R.P. TIDL660723MJCRZL07 (Mexico); (INDIVIDUAL) [SDNTK].

Dated: September 3, 2009.
Adam J. Szubin,
Director, Office of Foreign Assets Control.

[FR Doc. E9-21984 Filed 9-11-09; 8:45 am]

BILLING CODE 4811-45-P